DEPARTMENT OF THE INTERIOR

Fish and Wildlife Service

Notice of Receipt of Applications for Permit

Endangered Species

This notice is provided pursuant to Section 10(c) of the Endangered Species Act of 1973, as amended (16 U.S.C. 1531, et seq.) which requires the publication of a notice of each permit application received by the Fish and Wildlife Service. This notification requirement may be waived in an emergency situation where the health or life of an endangered animal is threatened and no reasonable alternative is available to the applicant. However, notice of any such waiver must be published within ten days following the issuance of the permit.

Emergency Exemption Issuance

On April 27, 2001, the U.S. Fish and Wildlife Service (Service) issued a permit (PRT-40800) to the National Aviary in Pittsburgh, Pittsburgh, Pennsylvania to export viable, fertilized eggs of captive bred Manchurian crane (Grus japonensis) and White-naped crane (Grus vipio) to the Khiganski Nature Reserve, Arkhara, Russia. The fertilized eggs are used in establishing reintroduced populations of these two crane species in Russia and the timely export of viable eggs is vital to the success of this conservation program. The Service determined that an emergency effecting the survival of the embryos existed and that no alternative was available to the applicant. Therefore, the 30-day public comment period required by section 10(c) of the Endangered Species Act was waived.

Written data or comments should be submitted to the director, U.S. Fish and Wildlife Service, division of Management Authority, 4401 North Fairfax Drive, Room 700, Arlington, Virginia 22203 and must be received by the director within 30 days of the date of this publication.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX (703/358-2281).

Dated: April 30, 2001.
Tim Van Norman,
Chief, Branch of Permits, Division of Management Authority.

[FR Doc. 01-11647 Filed 5-8-01; 8:45 am]

BILLING CODE 4310-55-M